DEPARTMENT OF ENERGY

National Power Transformer Reserve

AGENCY: Office of Electricity Delivery and Energy Reliability, U.S. Department of Energy.

ACTION: Request for Information; re-opening of comment period.

SUMMARY: On July 9, 2015, the Department of Energy (DOE) published in the Federal Register a Request for Information (RFI) regarding the policy development related to the possible establishment of a national reserve of power transformers that support the bulk power grid and requested public comment by August 24, 2015. DOE is re-opening the original public comment period for this RFI.

DATES: The comment period for the RFI published July 9, 2015 is re-opened. Written comments must be received on or before October 7, 2015.

ADDRESSES: Comments can be submitted by any of the following methods and must be identified by “Transformer Reserve”. By the Federal eRulemaking Portal: www.regulations.gov. Follow the instructions for submitting comments. By email: LPT.RFI.2015@hq.doe.gov, and include “Transformer Reserve” in the subject line of the message. By mail: Alice Lippert, Office of Electricity Delivery and Energy Reliability, U.S. Department of Energy, Forrestal Building, Room 1E-078, 1000 Independence Avenue SW., Washington, DC 20585. Note: Delivery of the U.S. Postal Service mail to DOE may be delayed by several weeks due to security screening. DOE, therefore, encourages those wishing to comment to submit comments electronically by email.

FOR FURTHER INFORMATION CONTACT: Ms. Alice Lippert, Office of Electricity Delivery and Energy Reliability, U. S. Department of Energy, 1000 Independence Avenue SW., Washington, DC 20585 at Alice.Lippert@hq.doe.gov, or by email: LPT.RFI.2015@hq.doe.gov.

SUPPLEMENTARY INFORMATION: On July 9, 2015, the DOE published a request for information in the Federal Register (80 FR 39422). DOE is seeking comments and information from interested parties to inform its policy development related to the possible establishment of a national reserve of power transformers that support the bulk power grid. The focus of the RFI is on the design and implementation of a National Power Transformer Reserve Program.

The July 9 notice requested comments and information from interested parties to inform its policy development related to the possible establishment of a national reserve of power transformers that support the bulk power grid by August 24, 2015. DOE is re-opening the comment period to allow additional time for more substantive comment on the significant questions to which DOE is seeking response.

DOE believes that re-opening the comment period to allow additional time for interested parties to submit comments is appropriate. Therefore, DOE is re-opening the comment period to provide interested parties additional time to prepare and submit comments and will consider any comments received by the new closing date. All comments received between the original August 24 closing date and the new closing date are considered timely filed, so people who submitted late comments during the original comment period do not need to re-submit comments.

Issued in Washington, DC, on September 18, 2015.
Liz Dalton,
Principal Deputy Assistant Secretary, Office of Electricity Delivery and Energy Reliability.

[FR Doc. 2015-24163 Filed 9-22-15; 8:45 am]

BILLING CODE 6450-01-P